COMMISSION ON CIVIL RIGHTS

Sunshine Act Meeting Notice

AGENCY: United States Commission on Civil Rights.

ACTION: Notice of Commission public business meeting.

DATES: Friday, July 18, 2025, 10:00 a.m. EST.

ADDRESSES: Meeting to take place virtually and is open to the public via livestream on the Commission's YouTube page: https://www.youtube.com/user/USCCR/videos.

FOR FURTHER INFORMATION CONTACT: Joe Kim: 202-499-0263. publicaffairs@usccr.gov.

SUPPLEMENTARY INFORMATION: In accordance with the Government in Sunshine Act (5 U.S.C. 552b), the Commission on Civil Rights is holding a meeting to discuss the Commission's business for the month of July. This business meeting is open to the public. Computer assisted real-time transcription (CART) will be provided. The web link to access CART (in English) on Friday, July 18, 2025, is https://www.streamtext.net/player?event=USCCR. Please note that CART is text-only translation that occurs in real time during the meeting and is not an exact transcript.

Meeting Agenda

I. Approval of Agenda

II. Business Meeting

A. Presentation by Wyoming Advisory Committee Chair on Housing Discrimination.

B. Discussion and Vote on State Advisory Committee Appointments.

C. Discussion and Vote on the Planning Documents for the 2026 Statutory Enforcement Report on The Federal Response to the Rise in Antisemitism on American College and University Campuses; and the 2026 Briefing Report on Mental Health in the Juvenile Justice System

D. Discussion and Vote on 2025 Statutory Enforcement Report: The Federal Response to Teacher Shortage Impacts on Students with Disabilities.

III. Staff Director's Report

A. Management and Operations.

IV. Adjourn Meeting

Dated: July 10, 2025.
David Ganz,
General Counsel, USCCR.

[FR Doc. 2025-13164 Filed 7-10-25; 4:15 pm]

BILLING CODE 6335-01-P